DEPARTMENT OF THE INTERIOR

Minerals Management Service

Agency Information Collection Activities: Proposed Collection; Comment Request

AGENCY: Minerals Management Service (MMS), Interior.

ACTION: Notice of new information collection (OMB Control Number 1010-NEW).

SUMMARY: To comply with the Paperwork Reduction Act of 1995 (PRA), we are inviting comments on a collection of information that we will submit to the Office of Management and Budget (OMB) for review and approval. The information collection request (ICR) is titled “Form MMS-144, Rig Movement/Skid Notification Report.”

DATES: Submit written comments by April 30, 2001.

ADDRESSES: Mail or hand-carry comments to the Department of the Interior; Minerals Management Service; Attention: Rules Processing Team; Mail Stop 4024; 381 Elden Street; Herndon, Virginia 20170-4817. If you wish to e-mail comments, the e-mail address is: rules.comments@mms.gov. Reference “Information Collection, form MMS-144, 1010-New” in your e-mail subject line. Include your name and return address in your e-mail message and mark your message for return receipt.

Our practice is to make comments, including names and home addresses of respondents, available for public review during regular business hours. Individual respondents may request that we withhold their home address from the record, which we will honor to the extent allowable by law. There may be circumstances in which we would withhold from the record a respondent's identity, as allowable by the law. If you wish us to withhold your name and/or address, you must state this prominently at the beginning of your comment. However, we will not consider anonymous comments. We will make all submissions from organizations or businesses, and from individuals identifying themselves as representatives or officials of organizations or businesses, available for public inspection in their entirety.

FOR FURTHER INFORMATION CONTACT: Alexis London, Rules Processing Team, telephone (703) 787-1600. You may also contact Alexis London to obtain a copy at no cost of the new form MMS-144.

SUPPLEMENTARY INFORMATION: Title: Form MMS-144, Rig Movement/Skid Notification Report.

OMB Control Number: 1010-New.

Abstract: The Outer Continental Shelf (OCS) Lands Act, 43 U.S.C. 1331 et seq., requires the Secretary of the Interior to preserve, protect, and develop oil and gas resources in the OCS; make such resources available to meet the Nation's energy needs as rapidly as possible; balance orderly energy resources development with protection of the human, marine, and coastal environments; ensure the public a fair and equitable return on the resources offshore; and preserve and maintain free enterprise competition. Section 1332(6) of the OCS Lands Act (43 U.S.C. 1332) requires that “operations in the [O]uter Continental Shelf should be conducted in a safe manner by well-trained personnel using technology, precautions, and techniques sufficient to prevent or minimize the likelihood of blowouts, loss of well control, fires, spillages, physical obstruction to other users of the waters or subsoil and seabed, or other occurrences which may cause damage to the environment or to property, or endanger life or health.” This authority and responsibility are among those delegated to MMS, under which we issue regulations governing oil and gas and sulphur operations in the OCS. The reporting and recordkeeping of information required by our 30 CFR part 250 regulations are mandatory. To facilitate and standardize required reporting, MMS has developed various forms. MMS also issues Notices to Lessees and Operators, which provide clarification, description, or interpretation of requirements contained in regulations, or implement supplemental or regional procedures.

This ICR concerns regulations in 30 CFR 250 subparts D, E, and F, and specifically in sections 401(g), 502, and 602, on equipment movement on and off an offshore platform or from well to well on the same offshore platform. The requirement for operators to notify MMS of rig movements is not specifically stated in §§ 250.401(g), 250.502, and 250.602. However, because of the increased volume of activity in the Gulf of Mexico Region (GOMR), it is now standard MMS procedure to require this notification as a condition of approval for drilling, well workover, recompletion, or abandonment operations. Because of this we have included the rig movement notification with the other the general information collection requirements of these regulations under OMB control numbers 1010-0053, 1010-0067, and 1010-0043. Also, MMS specifically included this reporting notification in the pending revised subpart D proposed regulations (§ 250.404), which OMB approved under 1010-0141.

In reporting rig movement, respondents will generally FAX the information or leave a telephone message. Because the current regulations do not specifically state what information MMS needs and MMS has not issued standard instructions on what to report, in many cases, the respondents have not provided sufficient information for MMS to identify the operator and type of activity. This then requires follow-up telephone calls or messages to the respondent to obtain the needed information. The current non-standard format for rig movement reporting has resulted in increased inspection flight time due to incorrect information. To avoid this recurring problem, the GOMR has developed a new form MMS-144, “Rig Movement/SKID Notification Report.” The MMS District Offices use the information reported to accurately ascertain the arrival and departure of all rigs in OCS waters. The accurate location of these rigs is necessary to better facilitate the scheduling of inspections by MMS personnel.

Responses are mandatory. No questions of a “sensitive” nature are asked and no proprietary information is involved.

Frequency: The frequency is “on occasion.”

Estimated Number and Description of Respondents: Approximately 130 Federal OCS oil and gas lessees.

Estimated Annual Reporting and Recordkeeping “Hour” Burden: We estimate respondents will average 6 minutes to fill out and complete form MMS-144. The total annual estimate is 180 burden hours.

Estimated Annual Reporting and Recordkeeping “Non-Hour Cost” Burden: We have identified no “non-hour cost” burden associated with form MMS-144.

Comments: The PRA (44 U.S.C. 3501, et seq.) provides that an agency may not conduct or sponsor, and a person is not required to respond to, a collection of information unless it displays a currently valid OMB control number. Before submitting an ICR to OMB, PRA section 3506(c)(2)(A) requires each agency “* * * to provide notice * * * and otherwise consult with members of the public and affected agencies concerning each proposed collection of information * * *”. Agencies must specifically solicit comments to:

(a) Evaluate whether the proposed collection of information is necessary for the agency to perform its duties, including whether the information is useful;

(b) Evaluate the accuracy of the agency's estimate of the burden of the proposed collection of information;

(c) Enhance the quality, usefulness, and clarity of the information to be collected; and

(d) Minimize the burden on the respondents, including the use of automated collection techniques or other forms of information technology. We will summarize written responses to this notice and address them in our submission for OMB approval, including any appropriate adjustments to the estimated burden.

Agencies must estimate both the “hour” and “non-hour cost” burdens to respondents or recordkeepers resulting from the collection of information. We have not identified any non-hour cost burdens for the information collection aspects of form MMS-144. Therefore, if you have costs to generate, maintain, and disclose this information, you should comment and provide your total capital and startup cost components or annual operation, maintenance, and purchase of service components. You should describe the methods you use to estimate major cost factors, including system and technology acquisition, expected useful life of capital equipment, discount rate(s), and the period over which you incur costs. Capital and startup costs include, among other items, computers and software you purchase to prepare for collecting information, monitoring, and record storage facilities. Generally, your estimates should not include equipment or services purchased: (i) Before October 1, 1995; (ii) to comply with requirements not associated with the information collection; (iii) for reasons other than to provide information or keep records for the Government; or (iv) as part of customary and usual business or private practices.

Dated: February 23, 2001.
E.P. Danenberger,
Chief, Engineering and Operations Division.

[FR Doc. 01-4982 Filed 2-28-01; 8:45 am]

BILLING CODE 4310-MR-P